INTERNATIONAL TRADE COMMISSION

U.S. Agricultural Sales to Cuba: Certain Economic Effects of U.S. Restrictions

AGENCY: United States International Trade Commission.

ACTION: Extension of date for transmitting report.

SUMMARY: Following receipt of a letter on June 18, 2007, from the Committee on Finance of the United States Senate (Committee), the Commission has extended to July 12, 2007, the date for transmitting its report to the Committee in investigation No. 332-489, U.S. Agricultural Sales to Cuba: Certain Economic Effects of U.S. Restrictions.

DATES: June 18, 2007: Receipt of letter from the Committee. July 12, 2007: New date for transmitting the Commission's report to the Committee.

Background: The Committee's letter dated June 18, 2007 and received on June 18, 2007, notes that Commission staff recently received visas to travel to Cuba and notes that the Commission will need additional time to incorporate any new information obtained during the travel into its report. To facilitate the incorporation of new information, the Committee has extended the transmittal date for the report to July 12, 2007.

The Commission published notice of institution of the investigation in the Federal Register on April 15, 2007 (72 FR 16817). The notice is also available on the Commission Web site at http://www.usitc.gov. All other information about the investigation, including a description of the subject matter to be addressed, contact information, and Commission addresses, remains the same as in the original notice. The public record for this investigation may be viewed on the Commission's electronic docket (EDIS) at http://www.usitc.gov/secretary/edis.htm.

Issued: June 25, 2007.
By order of the Commission.
Marilyn R. Abbott,
Secretary to the Commission.

[FR Doc. E7-12657 Filed 6-28-07; 8:45 am]

BILLING CODE 7020-02-P